SMALL BUSINESS ADMINISTRATION

[Declaration of Disaster #3589]

State of Arkansas

Ouachita County and the contiguous counties of Calhoun, Clark, Columbia, Dallas, Nevada, and Union in the State of Arkansas constitute a disaster area due to damages caused by severe storms and flooding that occurred on May 30, 2004. Applications for loans for physical damage may be filed until the close of business on August 13, 2004, and for economic injury until the close of business on March 14, 2005, at the address listed below or other locally announced locations: U.S. Small Business Administration, Disaster Area 3 Office, 14925 Kingsport Road, Fort Worth, TX 76155.

The interest rates are:

| Percent
For Physical Damage:
Homeowners with credit available elsewhere | 5.750
Homeowners without credit available elsewhere | 2.875
Businesses with credit available elsewhere | 5.500
Businesses and non-profit organizations without credit available elsewhere | 2.750
Others (including non-profit organizations) with credit available elsewhere | 4.875
For Economic Injury:
Businesses and small agricultural cooperatives without credit available elsewhere | 2.750

The number assigned to this disaster for physical damage is 358906 and for economic damage is 9ZI100.

(Catalog of Federal Domestic Assistance Program Nos. 59002 and 59008.)

Dated: June 14, 2004.
Hector V. Barreto,
Administrator.

[FR Doc. 04-13779 Filed 6-17-04; 8:45 am]

BILLING CODE 8025-01-P